DEPARTMENT OF THE INTERIOR

Bureau of Land Management

[CO-110-1060-DU]

Notice of Intent To Prepare an Environmental Assessment and Plan Amendment

AGENCY: Bureau of Land Management, Interior.

ACTION: Notice of intent to Prepare an Environmental Assessment (EA) for an Amendment to the White River Resource Management Plan (RMP) Regarding Management of Wild Horses in the West Douglas Herd Area.

SUMMARY: The Bureau of Land Management (BLM), White River Field Office proposes to prepare an EA and consider an amendment to the White River RMP regarding management of wild horses in the West Douglas Herd Area. The purpose of this planning process is to identify the most appropriate strategy for management of wild horses in the West Douglas Herd Area of the White River Resource Area, while protecting resource values, providing for multiple uses, and improving the health of public lands. The planning process will allow BLM, with integrated public involvement, to develop and conduct detailed analysis of a full range of alternatives specifically focused on wild horses and other resources within this herd area. BLM has determined that such detail and focus may not have been sufficiently addressed and documented in the current RMP, which has a resource-area-wide scope. BLM will hold public meetings in Rangely and Grand Junction, CO, to share information and identify specific concerns and issues pertaining to this plan amendment.

DATES: The official public scoping period for this planning effort commences with the publication of this notice. The public is invited to submit scoping comments to the address listed below until August 26, 2002. BLM will publish exact dates, times, and locations for public meetings through media announcements, internet postings, and mailings at least 15 days in advance of the meetings.

ADDRESSES: Send scoping comments to the White River Field Office, Bureau of Land Management, 73544 Hwy 64, Meeker, CO 81641, or e-mail scott_pavey@co.blm.gov.

SUPPLEMENTARY INFORMATION: The West Douglas Herd Area is located in Rio Blanco County, within the southwestern portion of the White River Resource Area in Northwestern Colorado. It contains 123,390 acres of public, and 4,754 acres of private land. The herd area also encompasses Texas and Oil Spring Mountains; portions of Douglas, Missouri, and Texas Creek Watersheds; a portion of the Oil Springs Mountain Wilderness Study Area; and a portion of the Canyon Pintado National Historic District.

BLM invites the public to identify issues that they feel should be addressed during the planning process. Thus far, BLM has identified the following preliminary issues:

Issue 1: Wild Horse Management. Have all reasonable management options been considered and analyzed? Do management alternatives meet statutory requirements?

Issue 2: Wilderness. Can wild horse management activities and wilderness values within Oil Spring Mountain Wilderness Study Area co-exist?

Issue 3: Oil and Gas Development. Will there be additional stipulations for oil and gas development? Will oil and gas development cause wild horses to disperse into areas outside of the herd area?

Issue 4: Forage Allocation. What proportions of available forage should be allocated to livestock, wild horses, and wildlife?

Public participation will be an essential component of this planning process. Anyone wishing to be placed on the BLM mailing list for this action should contact the person listed below or mail a letter containing contact information to the White River Field Office (address listed earlier in this notice). BLM will review all comments and take them into consideration when developing the Environmental Assessment and the plan amendment.

FOR FURTHER INFORMATION CONTACT: Scott Pavey, Planning and Environmental Coordinator, White River Field Office (970) 878-3831, E-mail: scott_pavey@co.blm.gov.

Dated: March 25, 2001.
James A. Cagney,
Associate Field Manager.

Editorial Note: This document was received in the Office of the Federal Register on June 20, 2002.

[FR Doc. 02-16010 Filed 6-24-02; 8:45 am]

BILLING CODE 4310-JB-P